DEPARTMENT OF DEFENSE

Office of the Secretary

Submission for OMB Review; Comment Request

ACTION: Notice.

SUMMARY: The Department of Defense has submitted to OMB for clearance, the following proposal for collection of information under the provisions of the Paperwork Reduction Act (44 U.S.C. Chapter 35).

Title and OMB Number: Health Evaluation Assessment Review (HEAR 2.X); OMB Number 0720-[To Be Determined].

Type of Request: New Collection.

Number of Respondents: 2,106,071.

Responses Per Respondent: 1.

Annual Responses: 2,106,071.

Average Burden Per Response: 20 minutes.

Annual Burden Hours: 703,248.

Needs and Uses: The survey is a self-reported health assessment tool. The Health Evaluation Assessment Review (HEAR) is a unified approach to assess health and fitness for active duty and other DoD health care beneficiaries. The information is used by health care personnel to plan health care delivery needs and to: (1) Identify patients requiring clinical preventive care; (2) target individuals who could benefit from counseling services associated with high risk behaviors; (3) categorize patients into one of three primary care levels according to the complexity and intensity of care required; (4) predict which patients will be high users of health care resources; (5) empower individuals to take responsibility for their own health; and, (6) assess the health status of the population. The HEAR will provide information in support of Healthy People 2010 and other population health programs. These data will provide needed information to better plan, deliver, and evaluate health care provided in the Military Health System.

Affected Public: Individuals or Households.

Frequency: On Occasion; Annually.

Respondent's Obligation: Voluntary.

OMB Desk Officer: Mr. Stuart Shapiro.

Written comments and recommendations on the proposed information collection should be sent to Mr. Shapiro at the Office of Management and Budget, Desk Officer for DoD Health Affairs, Room 10235, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: August 13, 2001.
Patricia L. Toppings,
Alternate OSD Federal Register Liaison Officer, Department of Defense.

[FR Doc. 01-20739 Filed 8-16-01; 8:45 am]

BILLING CODE 5001-08-M